FEDERAL ELECTION COMMISSION

Sunshine Act Notice

AGENCY: Federal Election Commission.

DATE AND TIME: Thursday, February 16, 2012 at 10:00 A.M.

PLACE: 999 E Street, NW., Washington, DC (Ninth Floor)

STATUS: This Meeting Will Be Open to the Public.

Items To Be Discussed

Correction and Approval of the Minutes for the Meeting of February 2, 2012.

Draft Advisory Opinion 2012-02: Wawa, Inc.

Draft Advisory Opinion 2012-04: Justice Party of Mississippi.

Management and Administrative Matters.

Individuals who plan to attend and require special assistance, such as sign language interpretation or other reasonable accommodations, should contact Shawn Woodhead Werth, Secretary, at (202) 694-1040, at least 72 hours prior to the meeting date.

PERSON TO CONTACT FOR INFORMATION: Judith Ingram, Press Officer, Telephone: (202) 694-1220.

Shawn Woodhead Werth,
Secretary of the Commission.

[FR Doc. 2012-3425 Filed 2-9-12; 4:15 pm]

BILLING CODE 6715-01-P